DEPARTMENT OF HEALTH AND HUMAN SERVICES

Centers for Disease Control and Prevention

[30Day-17-16AUE]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Developing Effective Messages about Excessive Alcohol Consumption: Formative Focus Groups with Adult Drinkers and Abstainers—New—National Center for Chronic Disease Prevention and Health Promotion (NCCDPHP), Centers for Disease Control and Prevention (CDC).

Background and Brief Description

Excessive alcohol use, including binge drinking, is responsible for approximately 88,000 deaths in the U.S. annually—including one in 10 deaths among working-age adults ages 20-64. On average, for each death due to alcohol, an individual's life is cut short by 30 years. Excessive alcohol use can also lead to motor vehicle crashes; intimate partner violence; and risky sexual behaviors, increasing the risk of HIV, other sexually transmitted infections, and unintended pregnancy. Over time, excessive alcohol use can lead to alcohol dependence, liver disease, high blood pressure, heart attack, stroke, and certain kinds of cancer. Furthermore, in 2010, excessive alcohol use cost the United States government $249 billion, or $2.05 per drink.

Binge drinking (defined as four or more drinks on an occasion for women or five or more drinks on an occasion for men) accounts for more than half of the deaths and three-quarters of the economic costs of excessive drinking. More than 38 million U.S. adults binge drink about four times a month, averaging eight drinks per binge. However, most (90%) binge drinkers are not alcohol dependent, presenting an opportunity for prevention through messages that improve voluntary compliance with recommended guidelines. States and communities can prevent binge drinking by supporting evidence-based strategies, such as those recommended by the Community Preventive Services Task Force; however, these strategies are underused. Understanding the type of information and messages that the larger community—those who drink but not excessively or abstain from drinking in addition to those who engage in binge drinking—respond to will be essential in developing the communication strategy for future outreach.

CDC plans to collect information needed to improve understanding of current knowledge, perceptions, and attitudes related to excessive alcohol consumption. Respondents will be 72 adults ages 21-64 years who agree to participate in focus group discussions of about 1.5 hours each. A total of 12 focus groups are planned in three geographically diverse locations with appropriate facilities (four focus groups per location). Each focus group will involve six respondents and will be guided by a professional moderator. Through an initial screening process, CDC will also collect the information needed to assess knowledge, perceptions, and attitudes across various audience segments: those who engage in binge drinking, those who drink but not excessively, and those who abstain from drinking.

The focus group discussions will be analyzed using qualitative tools and leverage a structured approach to thematic analysis. Findings from this information collection will guide the CDC Alcohol Program in the development and refinement of targeted messages to effectively communicate the problem of excessive alcohol use, and encourage support for effective prevention strategies. The ultimate goal of the subsequent messaging is a reduction in binge drinking, which will in turn reduce alcohol-related injuries and deaths among adults.

OMB approval is requested for one year. Participation is voluntary and there are no costs to respondents other than their time. The total estimated annual burden hours are 132.

Estimated Annualized Burden Hours
Type of respondents | Form name | Number of respondents | Number of responses per respondent | Average burden per response (in hours)
Adults aged 21-64 | Questionnaire/Screener | 288 | 1 | 5/60
| Focus Group | 72 | 1 | 1.5
Total |  |  |  |

Leroy A. Richardson,
Chief, Information Collection Review Office, Office of Scientific Integrity, Office of the Associate Director for Science, Office of the Director, Centers for Disease Control and Prevention.

[FR Doc. 2016-30400 Filed 12-16-16; 8:45 am]

BILLING CODE 4163-18-P